DEPARTMENT OF ENERGY

Federal Energy Regulatory Commission

Combined Notice of Filings #2

Take notice that the Commission received the following electric rate filings:

Docket Numbers: ER08-375-005.

Applicants: Southern California Edison Company.

Description: Southern California Edison Company's (SCE) Refund Report, in Compliance with the October 6, 2011, Rehearing Order.

Filed Date: 11/15/2011.

Accession Number: 20111115-5032.

Comment Date: 5 p.m. ET on 12/6/2011.

Docket Numbers: ER11-4219-000; ER11-4253-000.

Applicants: Wolverine Power Supply Cooperative, Inc., Michigan Electric Transmission Company.

Description: Wolverine Power Supply Cooperative, Inc et al submits responses to FERC's 9/30/11 Deficiency Letter that addresses the three amended and restated wires-to-wires interconnection agreements w/City of Grand Haven Board of Light & Power.

Filed Date: 10/31/2011.

Accession Number: 20111101-0008.

Comment Date: 5 p.m. ET on 11/21/2011.

Docket Numbers: ER12-400-000.

Applicants: PJM Interconnection, L.L.C.

Description: Original Service Agreement No. 3099; Queue No. W3-154 to be effective 10/12/2011.

Filed Date: 11/14/2011.

Accession Number: 20111114-5170.

Comment Date: 5 p.m. ET on 12/5/2011.

Docket Numbers: ER12-401-000.

Applicants: Interstate Power and Light Company.

Description: IPL and Bethel Wind—LBA Agreement to be effective 11/14/2011.

Filed Date: 11/14/2011.

Accession Number: 20111114-5171.

Comment Date: 5 p.m. ET on 12/5/2011.

Docket Numbers: ER12-402-000.

Applicants: Interstate Power and Light Company.

Description: IPL and Rippey Wind—LBA Agreement to be effective 11/14/2011.

Filed Date: 11/14/2011.

Accession Number: 20111114-5178.

Comment Date: 5 p.m. ET on 12/5/2011.

Docket Numbers: ER12-403-000.

Applicants: Interstate Power and Light Company.

Description: IPL and Vienna Wind—LBA Agreement to be effective 11/14/2011.

Filed Date: 11/14/2011.

Accession Number: 20111114-5188.

Comment Date: 5 p.m. ET on 12/5/2011.

Docket Numbers: ER12-404-000.

Applicants: Interstate Power and Light Company.

Description: IPL and Wellsburg Wind—LBA Agreement to be effective 11/14/2011.

Filed Date: 11/14/2011.

Accession Number: 20111114-5198.

Comment Date: 5 p.m. ET on 12/5/2011.

Docket Numbers: ER12-405-000.

Applicants: PJM Interconnection, L.L.C., American Electric Power Service Corporation.

Description: AEPSC submits SA No. 1336—29th Revised ILDSA among AEPSC & Buckeye to be effective 10/6/2011.

Filed Date: 11/14/2011.

Accession Number: 20111114-5223.

Comment Date: 5 p.m. ET on 12/5/2011.

Docket Numbers: ER12-406-000.

Applicants: PJM Interconnection, L.L.C., Monongahela Power Company, The Potomac Edison Company, West Penn Power Company.

Description: Monongahela Power Co, et al. submits Compliance Filing per Order in ER10-1152 to be effective 9/17/2010.

Filed Date: 11/14/2011.

Accession Number: 20111114-5265.

Comment Date: 5 p.m. ET on 12/5/2011.

Docket Numbers: ER12-407-000.

Applicants: Duke Energy Carolinas, LLC.

Description: Dallas PPA Filing to be effective 1/1/2012.

Filed Date: 11/14/2011.

Accession Number: 20111114-5298.

Comment Date: 5 p.m. ET on 12/5/2011.

Docket Numbers: ER12-408-000.

Applicants: Duke Energy Carolinas, LLC.

Description: Forest City PPA Filing to be effective 1/1/2012.

Filed Date: 11/14/2011.

Accession Number: 20111114-5301.

Comment Date: 5 p.m. ET on 12/5/2011.

Docket Numbers: ER12-409-000.

Applicants: Puget Sound Energy, Inc.

Description: Cancellation of OATT, Ninth Revised Vol &, Tariff ID 54 to be effective 11/14/2011.

Filed Date: 11/14/2011.

Accession Number: 20111114-5324.

Comment Date: 5 p.m. ET on 12/5/2011.

Docket Numbers: ER12-410-000.

Applicants: Puget Sound Energy, Inc.

Description: OATT, Tenth Revised Volume No 7 to be effective 11/14/2011.

Filed Date: 11/14/2011.

Accession Number: 20111114-5415.

Comment Date: 5 p.m. ET on 12/5/2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 15, 2011.
Nathaniel J. Davis, Sr.,
Deputy Secretary.

[FR Doc. 2011-30112 Filed 11-21-11; 8:45 am]

BILLING CODE 6717-01-P